DEPARTMENT OF JUSTICE

Notice of Lodging of Proposed Consent Decree Under the Clean Air Act

Notice is hereby given that on April 13, 2011, a proposed Consent Decree was filed with the United States District Court for the District of Oregon in United States v. JELD-WEN, Inc., No. 3:11-cv-453-JT (D. Or.). The proposed Consent Decree entered into by the United States, the States of West Virginia, Iowa, and North Carolina, and the company resolves the United States' and States' claims against the company for civil penalties and injunctive relief pursuant to the Clean Air Act, 42 U.S.C. 7412, 7413. Under the terms of the Consent Decree, JELD-WEN will pay the United States and States a combined civil penalty of $850,000, for excessive emissions of hazardous air pollutants from four door skin manufacturing plants located in Washington, Iowa, North Carolina, West Virginia. In addition, JELD-WEN will undertake projects to offset its excess emission, study and install process changes or controls to eliminate excess emissions, and comply with interim emission limits.

The Department of Justice will receive comments relating to the proposed Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States v. JELD-WEN, Inc., DJ Ref. No. 90-5-2-1-09567.

The proposed Consent Decree may be examined at the Office of the United States Attorney for the District of Oregon, 1000 SW. Third Avenue, Suite 600, Portland, Oregon 97204-2902, 503-727-1053, and at the Environmental Protection Agency, Region 10, 1200 6th Avenue, Seattle, Washington 98101, 800-424-4372. During the public comment period, the proposed Agreement may also be examined on the following Department of Justice Web site, http://www.usdoj.gov/enrd/Consent_Decrees.html. A copy of the proposed Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $18.00 (25 cents per page reproduction cost) payable to the U.S. Treasury.

Robert E. Maher, Jr.,
Assistant Section Chief, Environmental Enforcement Section, Environment and Natural Resources Division.

[FR Doc. 2011-10052 Filed 4-26-11; 8:45 am]

BILLING CODE 4410-15-P